DEPARTMENT OF TRANSPORTATION

Federal Railroad Administration

[Docket Number FRA-2018-0029]

Petition for Waiver of Compliance

Under part 211 of Title 49 of the Code of Federal Regulations (CFR), this provides the public notice that by a letter dated March 15, 2018, the Maryland Transit Administration (MTA-MARC), the Illinois Department of Transportation (IDOT), and the California Department of Transportation (Caltrans), have jointly petitioned the Federal Railroad Administration (FRA) for a waiver of compliance from certain provisions of the Federal railroad safety regulations contained at 49 CFR part 238, Passenger Equipment Safety Standards. FRA assigned the petition docket number FRA-2018-0029.

Specifically, Petitioners request relief from 49 CFR 238.131 and 238.133, pertaining to the exterior side door safety system interface with the Siemens SC-44 diesel-electric locomotives to be used in passenger service, when operating in a lite consist (locomotives only). Petitioners found that in daily operation, the by-pass switch for the door safety system must be put into “by-pass” to operate the locomotive lite, causing an operational constraint for daily servicing, maintenance, inspection, and fueling. The repeated unsealing and resealing of the by-pass switch may cause premature failure of the switch. MARC and Siemens worked jointly to develop a proposed “Yard Mode” solution, which monitors the door summary circuit trainline, along with other trainlines and locomotive operating parameters, determining whether the locomotive is operating in a lite consist or a passenger car consist. When “Yard Mode” is activated, it allows low speed (10 miles per hour or less) operation of the locomotive without placing the door by-pass device in by-pass. The “Yard Mode” solution relies on a multi-step software verification, along with multiple deliberate acts and confirmations by an operator, to enable the system.

A copy of the petition, as well as any written communications concerning the petition, is available for review online at www.regulations.gov and in person at the Department of Transportation's Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 11, 2018 will be considered by FRA before final action is taken. Comments received after that date will be considered if practicable.

Anyone can search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at https://www.transportation.gov/privacy. See also http://www.regulations.gov/#!privacyNotice for the privacy notice of regulations.gov.

Issued in Washington, DC.
Robert C. Lauby,
Associate Administrator for Railroad Safety Chief Safety Officer.

[FR Doc. 2018-18496 Filed 8-24-18; 8:45 am]

BILLING CODE 4910-06-P